ENVIRONMENTAL PROTECTION AGENCY

[FRL-8235-2]

Notice of Proposed Administrative Settlement Agreement Pursuant to the Comprehensive Environmental Response, Compensation, and Liability Act

AGENCY: Environmental Protection Agency.

ACTION: Notice; request for public comment.

SUMMARY: In accordance with subsections 122 (h)(1) and (i) of the Comprehensive Environmental Response, Compensation and Liability Act, as amended (“CERCLA”), 42 U.S.C. 9622(h)(1) and (i), notice is hereby given of a proposed administrative settlement agreement concerning the Terrero Mine Superfund Site, Terrero, San Miguel County, New Mexico (the site), between the Cyprus Amax Minerals Company (Cyprus) and the U.S. Environmental Protection Agency (EPA).

The settlement agreement requires the settling party Cyprus to pay $212,000.00 to the Hazardous Substances Superfund for reimbursement of CERCLA response costs incurred by the EPA in connection with the site and with two other Superfund Site Identification Codes. The settlement includes a covenant not to sue by the EPA pursuant to section 107 of CERCLA, 42 U.S.C. 9607, and follows the model settlement agreement promulgated by the EPA Office of Site Remediation Enforcement in February 2003.

For thirty (30) days following the date of publication of this notice, the Agency will receive written comments relating to this notice and to the settlement. The Agency will consider all comments received and may modify or withdraw its consent to the settlement if comments received disclose facts or considerations which indicate that the settlement is inappropriate, improper, or inadequate. The Agency's response to any comments received will be available for public inspection at 1445 Ross Avenue, Dallas, Texas 75202-2733, or through the contacts indicated below.

DATES: Comments must be submitted on or before November 27, 2006.

ADDRESSES: The proposed settlement and additional background information relating to the settlement are available for public inspection at 1445 Ross Avenue, Dallas, Texas 75202-2733. A copy of the proposed settlement may be obtained from Barbara Aldridge, 6SF-AC, 1445 Ross Avenue, Dallas, Texas 75202-2733, or by calling (214) 665-2712. Comments should reference the Terrero Mine Superfund Site, Terrero, New Mexico, and EPA Docket Number 6-11-06 and should be addressed to Barbara Aldridge at the address listed above.

FOR FURTHER INFORMATION CONTACT: James L. Turner, Office of Regional Counsel (6RC-S), U.S. EPA Region 6, 1445 Ross Avenue, Dallas, Texas 75202-2733 or call (214) 665-3159.

Dated: October 19, 2006.
Richard E. Greene,
Regional Administrator, Region 6.

[FR Doc. E6-18020 Filed 10-26-06; 8:45 am]

BILLING CODE 6560-50-P